DEPARTMENT OF TRANSPORTATION

Federal Aviation Administration

14 CFR Part 73

[Docket No. FAA-2023-2220; Airspace Docket No. 23-AWP-59]

RIN 2120-AA66

Amendment of Restricted Area R-2512 Holtville, CA

AGENCY: Federal Aviation Administration (FAA), DOT.

ACTION: Final rule; correction.

SUMMARY: This action corrects a final rule published by the FAA in the Federal Register on November 16, 2023, that amends restricted area R-2512 in the vicinity of Holtville, CA.

DATES: Effective date 0901 UTC, January 25, 2024. The Director of the Federal Register approves this incorporation by reference action under 1 CFR part 51, subject to the annual revision of FAA Order 7400.10 and publication of conforming amendments.

ADDRESSES: A copy of the Notice of Proposed Rulemaking (NPRM), all comments received, the final rule, this final rule correction, and all background material may be viewed online at www.regulations.gov using the FAA Docket number. Electronic retrieval help and guidelines are available on the website. It is available 24 hours each day, 365 days each year.

FAA Order JO 7400.11H, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Steven Roff, Rules and Regulations Group, Office of Policy, Federal Aviation Administration, 800 Independence Avenue SW, Washington, DC 20591; telephone: (202) 267-8783.

SUPPLEMENTARY INFORMATION:

History

The FAA published a final rule in the Federal Register for Docket No. FAA-2023-2220 (88 FR 78636; November 16, 2023), that amended restricted area R-2512 in the vicinity of Holtville, CA. The section of 14 CFR part 73 to be amended by the final rule was incorrectly stated as 73.22. The correct section of 14 CFR part 73 to be amended is 73.25. This rule corrects this typographical error.

Correction to Final Rule

Accordingly, pursuant to the authority delegated to me, the airspace amendment reflected in Docket No. FAA-2023-2220, as published in the Federal Register of November 16, 2023 (88 FR 78636), FR Doc. 2023-25347, is corrected as follows:

§ 73.25 [Amended]

2. Section 73.25 is amended as follows:

* * * * *

R-2512 Holtville, CA [Amended]

Boundaries. Beginning at lat. 33°05′00″ N, long. 115°17′33″ W; to lat. 33°00′00″ N, long. 115°13′33″ W; to lat. 32°51′00″ N, long. 115°05′33″ W; to lat. 32°51′00″ N, long. 115°17′03″ W; to lat. 32°58′00″ N, long. 115°17′33″ W; to lat. 33°05′00″ N, long. 115°20′03″ W; to the point of beginning.

Designated altitudes. Surface to 23,000 feet MSL.

Time of designation. 0600-2300 local time daily; other times by NOTAM 24 hours in advance.

Controlling agency. FAA, Los Angeles ARTCC.

Using Agency. U.S. Marine Corps, Commanding Officer, Marine Corps Air Station Yuma, Yuma, AZ.

* * * * *

Issued in Washington, DC, on November 30, 2023.
Karen Chiodini,
Acting Manager, Rules and Regulations Group.

[FR Doc. 2023-26706 Filed 12-5-23; 8:45 am]

BILLING CODE 4910-13-P